DEPARTMENT OF TRANSPORTATION

Federal Aviation Administration

14 CFR Part 39

[Docket No. 99-SW-08-AD; Amendment 39-11657; AD 2000-07-03]

RIN 2120-AA64

Airworthiness Directives; Robinson Helicopter Company Model R44 Helicopters

AGENCY: Federal Aviation Administration, DOT.

ACTION: Final rule.

SUMMARY: This amendment adopts a new airworthiness directive (AD), applicable to Robinson Helicopter Company (Robinson) Model R44 helicopters, that requires inspecting the wire harness for contact with the fuel line assembly, removing and replacing the fuel line assembly if chafing has occurred, and installing spiral wrap tubing on the fuel line assembly. This amendment is prompted by four incidents of contact between the wire harness and the fuel line assembly. The actions specified by this AD are intended to prevent contact between the wire harness and the fuel line, which could result in chafing of the wire harness and a potential fire hazard.

EFFECTIVE DATE: May 11, 2000.

FOR FURTHER INFORMATION CONTACT: Elizabeth Bumann, Aerospace Engineer, FAA, Los Angeles Aircraft Certification Office, 3960 Paramount Blvd., Lakewood, California 90712-4137, telephone (562) 627-5265; fax (562) 627-5210.

SUPPLEMENTARY INFORMATION: A proposal to amend part 39 of the Federal Aviation Regulations (14 CFR part 39) to include an AD that is applicable to Robinson Model R44 helicopters was published in the Federal Register on August 11, 1999 (64 FR 43638). That action proposed inspecting the wire harness for contact with the fuel line assembly, removing and replacing the fuel line assembly if chafing has occurred, and installing spiral wrap tubing on the fuel line assembly.

Interested persons have been afforded an opportunity to participate in the making of this amendment. Due consideration has been given to the comments received.

The one commenter states that the proposed AD does not mention repair or replacement of the wire harness if chafing damaged the loom. The commenter also states that there are no instructions for ensuring proper clearance between the wire bundle and wrapped fuel pipe. The proposed AD would require inspection of the wire harness for chafing, and maintenance regulations require that the aircraft be restored to an airworthy condition before being returned to service. In order for the aircraft to be in an airworthy condition, a chafed wire harness must be replaced and proper clearance ensured. The FAA has therefore determined that it is not necessary to revise the requirements of the AD in response to these comments. However, for information only, a note 3 has been added to refer the reader to an acceptable method of replacing the wire harness.

After careful review of the available data, including the comments noted above, the FAA has determined that air safety and the public interest require the adoption of the rule with the change described previously. The FAA has determined that this change will neither increase the economic burden on any operator nor increase the scope of the AD.

The FAA estimates that 200 helicopters of U.S. registry will be affected by this AD, that it will take approximately 0.3 work hour per helicopter to accomplish the required actions, and that the average labor rate is $60 per work hour. Required parts will cost approximately $0.22 per helicopter. Based on these figures, the total cost impact of the AD on U.S. operators is estimated to be $3,644.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

AD 2000-07-03 Robinson Helicopter Company: Amendment 39-11657. Docket No. 99-SW-08-AD.

Applicability: Model R44 helicopters, serial numbers 0002 through 0462, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (e) of this AD. The request should include an assessment of the effect of the modification, alteration, or repair on the unsafe condition addressed by this AD; and if the unsafe condition has not been eliminated, the request should include specific proposed actions to address it.

Compliance: Required within 100 hours time-in-service or 90 calendar days after the effective date of this AD, whichever occurs first, unless accomplished previously.

To prevent contact between the wire harness and the fuel line assembly, which could result in chafing of the wire harness and a potential fire hazard, accomplish the following:

(a) Remove the cover, part number (P/N) C474-1, from between the rear seatbacks.

(b) Inspect the wire harness, P/N C059, and the fuel line assembly, P/N C726-2, above the fuel shutoff valve for contact. If the wire harness contacts the fuel line assembly, inspect for chafing.

(c) If chafing has occurred between the wire harness and the fuel line assembly, replace the fuel line with an airworthy fuel line assembly. Torque the fuel line nuts to 110-130 in-lbs. Verify that clearance exists between the fuel line assembly and the wire harness.

(d) Install a 3-inch section of spiral wrap tubing, P/N B161-8, on the fuel line assembly as shown in Figure 1. Push the spiral wrap tubing down until it is against the fuel line fitting.

Note 2: Robinson Helicopter Company Service Bulletin SB-31, dated October 28, 1998, pertains to the subject of this AD.

Note 3: Advisory Circular 43.13-1B, Chapter 11, describes procedures acceptable for replacing the wire harness if required.

BILLING CODE 4910-13-U

BILLING CODE 4910-13-C

(e) An alternative method of compliance or adjustment of the compliance time that provides an acceptable level of safety may be used if approved by the Manager, Los Angeles Aircraft Certification Office. Operators shall submit their requests through an FAA Principal Maintenance Inspector, who may concur or comment and then send it to the Manager, Los Angeles Aircraft Certification Office.

Note 4: Information concerning the existence of approved alternative methods of compliance with this AD, if any, may be obtained from the Los Angeles Aircraft Certification Office.

(f) Special flight permits may be issued in accordance with sections 21.197 and 21.199 of the Federal Aviation Regulations (14 CFR 21.197 and 21.199) to operate the helicopter to a location where the requirements of this AD can be accomplished.

(g) This amendment becomes effective on May 11, 2000.

Issued in Fort Worth, Texas, on March 28, 2000.
Henry A. Armstrong,
Manager, Rotorcraft DirectorateAircraft Certification Service.

[FR Doc. 00-8519 Filed 4-5-00; 8:45 am]

BILLING CODE 4910-13-U